DEPARTMENT OF THE INTERIOR

Geological Survey

Scientific Earthquake Studies Advisory Committee

AGENCY: Geological Survey, Interior.

ACTION: Notice of meeting.

SUMMARY: Pursuant to Public Law 106-503, the Scientific Earthquake Studies Advisory Committee (SESAC) will hold its third meeting. The meeting location is the U.S. Geological Survey, John W. Powell National Center, Room 3B457, 12201 Sunrise Valley Drive, Reston, Virginia 20192. The Committee is comprised of members from academia, industry, and State government. The Committee shall advise the Director of the U.S. Geological Survey (USGS) on matters relating to the USGS's participation in the National Earthquake Hazards Reduction Program.

The Committee will review a draft of the 5-year plan of the U.S. Geological Survey's National Earthquake Hazards Reduction Program. This will include a critique of the goals and objectives of the Program over the next 5 years in earthquake hazards assessments, in research on earthquake processes and effects, and in earthquake monitoring and notification.

Meetings of the Scientific Earthquake Studies Advisory Committee are open to the public.

DATES: January 8, 2003, commencing at 9 a.m. and adjourning at 4:30 p.m. on January 9, 2003.

FOR FURTHER INFORMATION CONTACT: Dr. John R. Filson, U.S. Geological Survey, 12201 Sunrise Valley Drive, Reston, Virginia 20192, (703) 648-6785.

Dated: December 3, 2002.
P. Patrick Leahy,
Associate Director for Geology.

[FR Doc. 02-32048 Filed 12-19-02; 8:45 am]

BILLING CODE 4310-Y7-M